DEPARTMENT OF HOMELAND SECURITY

[USCG-2006-26267]

Double Hull Standards for Vessels Carrying Oil in Bulk; U.S. Position on International Standards for Tank Vessel Design

AGENCY: Coast Guard, DHS.

ACTION: Notice.

SUMMARY: This notice is to inform the public that on January 25, 2005, the U.S. Embassy in London deposited a declaration with the International Maritime Organization stating that the express approval of the U.S. Government will be necessary before Regulations 19, 20, and 21 of the revised Annex I of the International Convention for the Prevention of Pollution from Ships (MARPOL 73/78) would enter into force for the U.S.

FOR FURTHER INFORMATION CONTACT: For information concerning this notice, contact Mr. David A. Du Pont, Project Manager, Office of Standards Evaluation and Development, Project Development Division (CG-3PSR-2), telephone 202-372-1497 or via e-mail at David.A.DuPont@uscg.mil. If you have questions on viewing material to the DOT Docket Management Facility docket, call Ms. Renee V. Wright, Program Manager, Docket Operations, telephone 202-493-0402.

ADDRESSES: Comments and material received from the public, as well as documents mentioned in this preamble as being available in the docket, are part of docket USCG-2006-26267 and are available for inspection or copying at the Docket Management Facility, U.S. Department of Transportation, room PL-401, 400 Seventh Street SW., Washington, DC, between 9 a.m. and 5 p.m., Monday through Friday, except Federal holidays. You may also find this docket on the Internet at http://dms.dot.gov.

SUPPLEMENTARY INFORMATION: The International Convention for the Prevention of Pollution from Ships (MARPOL 73/78), implemented by the Act to Prevent Pollution from Ships at 33 U.S.C. 1901 et seq., is the primary international agreement aimed at reducing pollution of the marine environment from a variety of vessel-generated sources. Annex I to MARPOL 73/78, “Regulations for the Prevention of Pollution by Oil,” contains provisions intended to reduce both intentional and accidental discharges of oil. The entire annex was revised by adoption of Resolution MEPC.117(52) on October 15, 2004. Revised Annex I will enter into force on January 1, 2007. Three of the revised Annex I regulations are the focus of this notice.

• Regulation 19 of revised Annex I, “Double hull and double bottom requirements for oil tankers delivered on or after 6 July 1996,” establishes design requirements for double hull oil tank vessels delivered on or after July 6, 1996.

• Regulation 20 of revised Annex I, “Double hull and double bottom requirements for oil tankers delivered before 6 July 1996,” establishes design requirements for double hull oil tank vessels delivered before July 6, 1996.

• Regulation 21 of revised Annex I, “Prevention of oil pollution from oil tankers carrying heavy grade oil as cargo,” bans the carriage of heavy grade oil in certain single hull tank vessels.

Through its January 25, 2005 declaration, which is available in the docket, the U.S. advised the IMO that the express approval of the U.S. will be necessary before these amendments will be applied in place of existing U.S. law. As a result, the U.S. has reaffirmed with the IMO that the Oil Pollution Act of 1990 (OPA 90) continues to be the national governing design standard for tank vessels operating in U.S. waters.

This January 25, 2005, declaration is fully consistent with prior actions by the U.S. in this area. In each of the three past instances, the U.S. deposited an instrument with IMO and published a notice in the Federal Register. Details of these past notices are found in the table below.

Notice title | Docket number, federal register cite, date of publication | Notice summary
Double Hull Standards for Vessels Carrying Oil in Bulk; U.S. Position on International Standards for Tank Vessel Design | CGD 90-051; 58 FR 39087; July 21, 1993 | International standards for new and existing tank vessel designs were developed and adopted by the International Maritime Organization (IMO) in March 1992. The U.S. has taken the position with IMO that the express approval of the U.S. Government would be necessary before these international tank vessel design standards will be enforced by the U.S. This is due to technical differences with the mandated requirements of the Oil Pollution Act of 1990 (OPA 90) and IMO's adopted international tank vessel design standards.
Double Hull Standards for Vessels Carrying Oil in Bulk; U.S. Position on the Amendment of International Standards for the Phase-Out of Existing Single Hull Tank Vessels | USCG-2002-10298; 67 FR 7443; February 19, 2002 | This notice is to inform the public that on February 12, 2002, the U.S. Embassy in London deposited a declaration with the International Maritime Organization (IMO) stating that the express approval of the U.S. Government will be necessary before the revised Regulation 13G of the International Convention for the Prevention of Pollution from Ships (MARPOL 73/78) would enter into force for the U.S. In this declaration, the U.S. cited specific technical differences between the revised MARPOL Regulation for new and existing tankers and OPA 90.
U.S. Position on Amendments to MARPOL 73/78 Regarding the Phase-Out of Existing Single Hull Tank Vessels | USCG-2004-18656; 69 FR 46172; August 2, 2004 | This notice is to inform the public that on Friday, July 2, 2004, the U.S. Embassy in London deposited a declaration with the International Maritime Organization stating that the express approval of the U.S. Government will be necessary before the December 2003 revised Regulation 13G and new Regulation 13H of the International Convention for the Prevention of Pollution from Ships (MARPOL 73/78) would enter into force for the U.S. In this declaration, the U.S. cited specific technical differences between the revised MARPOL 73/78 regulations for new and existing tank vessels and provisions of the Oil Pollution Act of 1990.

Copies of these notices are available in the docket.

Authority: 33 U.S.C. 1231, 33 U.S.C. 1321, E.O. 12777, Department of Homeland Security Delegation No. 0170.1.

Dated: November 24, 2006.
P.E. Little,
Captain, U.S. Coast Guard, Acting Director of National and International Standards, Assistant Commandant for Prevention.

[FR Doc. E6-20286 Filed 11-29-06; 8:45 am]

BILLING CODE 4910-15-P